DEPARTMENT OF THE INTERIOR

Fish and Wildlife Service

[FWS-R2-ES-2013-N187; FXES11120200000F2-134-FF02ENEH00]

Environmental Action Statement Screening Form and Proposed Amendment to the Candidate Conservation Agreement With Assurances; Lesser Prairie Chicken, Oklahoma

AGENCY: Fish and Wildlife Service, Interior.

ACTION: Notice of availability and request for public comment.

SUMMARY: We, the U.S. Fish and Wildlife Service (Service), announce the availability of the environmental action statement screening form and the draft amendment to the Agricultural Candidate Conservation Agreement with Assurances (CCAA) for the lesser prairie chicken (Tympanuchus pallidicinctus) (LEPC) in Oklahoma, under the National Environmental Policy Act of 1969. The Oklahoma Department of Wildlife Conservation (ODWC) (applicant) has applied for an amendment of their existing CCAA, with a major amendment to increase enrollment from 200,000 acres to 400,000 acres by 2037 throughout the 14 Oklahoma counties described in the CCAA.

DATES: Comment Period: To ensure consideration of your written comments, they must be received on or before close of business (4:30 p.m. CST) January 21, 2014. Any comments that we receive after the closing date may not be considered in the final decisions on these actions.

ADDRESSES: For where to view documents, see Availability of Documents in SUPPLEMENTARY INFORMATION.

FOR FURTHER INFORMATION CONTACT: Acting Field Supervisor, by U.S. mail at U.S. Fish and Wildlife Service, 9014 East 21st Street, Tulsa, OK 74129, or by telephone at 918-581-7458.

SUPPLEMENTARY INFORMATION:

In accordance with the requirements of the National Environmental Policy Act of 1969 (NEPA) (42 U.S.C. 4321 et seq.), we advise the public that:

1. We have gathered the information necessary to determine impacts in the environmental action statement screening form related to potential issuance of an amended enhancement of survival permit to the applicant; and

2. The applicant has developed a draft amendment to the CCAA, which doubles the acreage of enrollment on which ODWC could take to implement conservation measures for the LEPC by removing threats to the species and protecting their habitat to the maximum extent practicable pursuant to section 10(a)(1)(A) of the Endangered Species Act of 1973 (Act), as amended (16 U.S.C. 1531 et seq.).

The permitted CCAA is authorized for 25 years in Alfalfa, Beaver, Beckham, Cimarron, Custer, Dewey, Ellis, Harper, Major, Roger Mills, Texas, Washita, Woods, and Woodward Counties, Oklahoma. This area constitutes the CCAA's Planning Area, with Covered Areas being eligible on non-Federal lands within the Planning Area that provide suitable habitat for LEPC, or have the potential to provide suitable LEPC habitat with the implementation of conservation management practices. This proposed amendment would double the enrollment cap from 200,000 acres to 400,000 acres. This would double the conservation program currently being implemented on agricultural lands within the historic range of the LEPC under the current section 10(a)(1)(A) enhancement of survival permit held by ODWC. The CCAA is in addition to a larger conservation effort for the LEPC across its range within Texas, Oklahoma, Colorado, Kansas, and New Mexico.

ODWC will enroll participating landowners through issuance of Certificates of Inclusion pursuant to the CCAA. Participating landowners who are fully implementing the CCAA provisions of the enhancement of survival permit will be provided assurances that, should the LEPC be listed, the Service will not require them to provide additional land, water, or financial resources, nor will there be any further restrictions to their land, water, or financial resources than those they committed to under the CCAA provisions. The CCAA provisions are found in the Code of Federal Regulations (CFR) at 50 CFR 17.22(d) and 17.32(d). Furthermore, if the LEPC is listed, participating landowners would be provided incidental take authorization under the enhancement of survival permit for the level of incidental take on the enrolled lands consistent with the activities under the CCAA provisions. This amendment would potentially double the amount of the incidental take authorization proportionately with the doubling of the enrolled conservation acres.

Background

The LEPC currently occurs in five States: Colorado, Kansas, New Mexico, Oklahoma, and Texas. The species inhabits rangelands dominated primarily by shinnery oak-bluestem and sand sagebrush-bluestem vegetation types. Major factors affecting the status of the LEPC are habitat fragmentation, overutilization by domestic livestock, oil and gas development, wind energy development, loss of native rangelands to cropland conversion, herbicide use, fire suppression, and drought. In 1998, the Service determined that listing of the LEPC was warranted but precluded because of other higher priority species. The December 2008 Candidate Notice of Review elevated the listing priority of the LEPC from an “8” to a “2” because the overall magnitude of threats to the LEPC were increasing and occurring throughout almost all of the currently occupied range.

On January 25, 2013 (77 FR 37917), we issued a final environmental assessment (EA), along with the final CCAA and enhancement of survival permit. We included public comments and responses associated with the draft EA and draft CCAA in an appendix to the final EA. The Service worked with the ODWC on the development of the CCAA for the LEPC in the State of Oklahoma. The CCAA was initiated in order to facilitate conservation and restoration of the LEPC on private and State trust lands in Oklahoma. Expected conservation benefits for the LEPC from implementation of the conservation measures in this CCAA will be recognized through improved population performance. Specifically, this will entail expected increases in adult and juvenile survivorship, nest success, and recruitment rates. A full discussion of the impacts, both positive and negative, can be found in the Final Environmental Assessment and Biological/Conference Opinion for the original CCAA (http://www.fws.gov/southwest/es/LPC.html).

Proposed Action

The purpose of the amendment to the CCAA is to double the amount of acreage that ODWC can use to enroll participating landowners from 200,000 to 400,000 acres over the 25 year duration of the CCAA. The additional acreage will potentially double the amount of conservation for the LEPC by doubling the amount of birds protected on enrolled lands. If, on average, LEPC densities are about two birds per square mile in good quality habitat, there could be as many as 1,250 LEPCs within the targeted enrollment/implementation area of this CCAA and an overall population of about 3,125 birds within the entire planning area. We have analyzed the effects through reinitiating the original Conference Opinion and we have found that the approval and implementation of the amended CCAA will extend a landscape-level conservation program that will result in increased re-colonization of suitable habitats by the LEPC. Furthermore, the conservation measures included in the amended CCAA are designed to reduce the major habitat-related threats to the LEPC in Oklahoma, which is expected to lead to increased distribution and abundance of the species in the action area. Also, adverse impacts associated with implementation of conservation measures under the amended CCAA are expected to be minor and temporary, and should be offset and exceeded by beneficial and long-lasting effects to the LEPC and its habitat. Although an increase in the number of acres enrolled will increase the extent of incidental take of the LEPC, this will be offset and exceeded by beneficial effects that will also increase under the amended CCAA.

Availability of Documents

Electronic copies of the proposed CCAA amendment and the Environmental Action Statement Screening Form, along with the final CCAA and final EA are available on the Service's LEPC Web site, http://www.fws.gov/southwest/es/LPC.html. Alternatively, you may obtain CD-ROMs with electronic copies of these documents by writing to Acting Field Supervisor, U.S. Fish and Wildlife Service, 9014 East 21st Street, Tulsa, OK 74129; calling 918-581-7458; or faxing 918-581-7467. Please refer to TE72923A-1 when requesting documents. The proposed amendment to the CCAA and the environmental action statement screening form are available for public inspection, by appointment only, during normal business hours (8 a.m. to 4:30 p.m.) at the Tulsa address listed above.

Persons wishing to review the amended CCAA or Environmental Action Statement may obtain a copy by writing to the Regional Director, U.S. Fish and Wildlife Service, P.O. Box 1306, Room 6034, Albuquerque, NM 87103.

Authority

We provide this notice under section 10(c) of the Act (16 U.S.C. 1531 et seq.) and its implementing regulations (50 CFR 17.22) and NEPA (42 U.S.C. 4321 et seq.) and its implementing regulations (40 CFR 1506.6).

Joy E. Nicholopoulos,
Acting Regional Director, Southwest Region, Albuquerque, New Mexico.

[FR Doc. 2013-30305 Filed 12-19-13; 8:45 am]

BILLING CODE 4310-55-P